DEPARTMENT OF EDUCATION

Notice of Public Hearing

AGENCY: National Assessment Governing Board; Education

SUMMARY: The National Assessment Governing Board is announcing a public hearing on October 25, 2005 to obtain comment on the draft 2009 Science Framework for the National Assessment of Educational Progress (NAEP). Public and private parties and organizations are invited to present written and/or oral testimony. The forum will be held at the Phoenix Park Hotel, 520 North Capitol Street, NW., Washington, DC from 9:30 a.m. to 3 p.m. Eastern Standard Time.

Background: Under Public Law 107-279, the Governing board is responsible for determining the content and methodology of NAEP assessments. The Board also has responsibility for developing “a process for review of the [NAEP] assessment, which includes the active participation of teachers, curriculum specialists, local school board administrators, parents, and concerned members of the public.” The draft framework is the result of a comprehensive process involving participants from all these groups.

The framework, subject to approval by the Governing Board, describes the content and format for a new NAEP science assessment to be administered beginning in 2009 at grades 4, 8, and 12.

The frame work covers a broad range of scientific content and practices in Physical, Life, and Earth/Space sciences. It was developed by panels of educators, scientists, and interested members of the public through a widely-inclusive process.

The draft framework is available on the Web site of the Governing Board at http://www.nagb.org. Other related material on the Governing Board and the National Assessment may be found at this Web site and at http://nces.ed.gov/nationsreportcard.

The Board is seeking comment from policymakers, science educators, researchers, state and local school administrators, assessment specialists, parents of children in elementary and secondary schools, and interested members of the public. Representatives of the National Assessment Governing Board will conduct the hearing to receive testimony, and may ask clarifying questions or respond to presentations. Oral presentations should not exceed ten minutes. Testimony will become part of the public record.

All views will be considered by the Governing Board Committee when it takes final action on the NAEP 2009 Science Framework, which is anticipated in November 2005.

To register to present oral testimony on October 25, 2005 at the Phoenix Park Hotel, please call Tessa Regis, of the NAGB staff, at (202) 357-7500 or send an e-mail to tessa.regis@ed.gov by Friday, October 21. Written testimony should be sent by mail, fax or e-mail for receipt in the Board office by October 26.

Testimony should be sent to:

National Assessment Governing Board, 800 North Capitol Street, NW.—Suite 825, Washington, DC 20002, Attn: Mary Crovo, Fax: (202) 357-6945, E-mail: mary.crovo@ed.gov.

For further information, please contact Charles Smith or Mary Crovo at (202) 357-6938.

This document is intended to notify the general public of their opportunity to attend. Individuals who will need accommodations for a disability in order to attend the meeting (i.e., interpreting services, assistive listening devices, materials in alternative format) should notify Munira Mwalimu at (202) 357-6938 or at munira.mwalimu@ed.gov no later than October 17, 2005. We will attempt to meet requests after this date, but cannot guarantee availability of the requested accommodation. The meeting site is accessible to individuals with disabilities.

SUPPLEMENTARY INFORMATION: The National Assessment Governing Board is established under section 412 of the National Education Statistics Act of 1994, as amended.

The Board is established to set policy for the National Assessment of Educational Progress (NAEP). The Board's responsibilities include selecting subject areas to be assessed, developing assessment objectives, developing appropriate student achievement levels for each grade and subject tested, planning and executing the initial public release of NAEP reports, and developing guidelines for reporting and disseminating results.

Summaries of the forum, which are informative to the public and consistent with the policy of section 5 U.S.C. 552b(c), will be available to the public within 14 days of the meeting. Records are kept of all Board proceedings and are available for public inspection at the U.S. Department of Education, National Assessment Governing Board, Suite #825, 800 North Capitol Street, NW., Washington, DC, from 9 a.m. to 5 p.m. eastern standard time.

Dated: September 30, 2005.
Munira Mwalimu,
Operations Officer, National Assessment Governing Board.

[FR Doc. 05-19957 Filed 10-4-05; 8:45 am]

BILLING CODE 4000-01-M